DEPARTMENT OF AGRICULTURE

Submission for OMB Review; Comment Request

March 17, 2000.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Animal and Plant Health Inspection Service

Title: Scrapie Flock Certification, Animal Identification, and Indemnification Procedures.

OMB Control Number: 0579-0101.

Summary of Collection: Title 21, U.S.C. authorizes sections 111, 114, 114a, 114-1, 115, 120, 121, 125, 126, 134a, 134C, 134f, and 134g, of 21 U.S.C. These authorities permit the Secretary to prevent, control and eliminate domestic diseases such as scrapie, and other domestic diseases, as well as to take actions to prevent and to manage exotic diseases such as hog cholera, African swine fever, and other foreign diseases. Disease prevention is the most effective method for maintaining a healthy animal population and enhancing our ability to compete in exporting animals and animal products. Scrapie is a progressive degenerative disease of the central nervous system of sheep and goats. The disease develops slowly, with an incubation period lasting from months to years. The Animal and Plant Health Inspection Service (APHIS) will collect information using forms VS 5-18, 5-21, 5-22, and 5-23.

Need and Use of the Information: APHIS will collect information from flock owners that include the following: flock owner's name, address, telephone, location of flock, number of flock, animals identification, and destination or origin. The information will help in identifying and eliminating infected animals or herds in order to prevent the disease from spreading. If the information is not collected the Scrapie Flock Certification Program could not be conducted and this could cause the disease to spread throughout the United States.

Description of Respondents: Farms; business or other for-profit; Federal Government; State, Local or Tribal Government.

Number of Respondents: 1,081.

Frequency of Responses: Recordkeeping; Reporting; On occasion.

Total Burden Hours: 15,846.

Farm Service Agency

Title: ELS Cotton Competitiveness Payment Program.

OMB Control Number: 0560-NEW.

Summary of Collection: The Consolidated Appropriations Act for FY 2001 (Pub. L. 106-113) authorized the ELS Cotton Competitiveness Payment Program. The objective of Congress in authorizing ELS cotton competitiveness payments was to help ensure the U.S. grown ELS cotton would remain competitive in world trade, particularly in the face of subsidies being offered by other producing countries. The program is designed so that competitiveness payments would trigger in response to deterioration in the competitive position of U.S. grown ELS cotton in relation to foreign ELS cotton growths. The Farm Service Agency (FSA) will collect information using forms CCC-1045A and CCC-1045-2.

Need and Use of the Information: FSA will collect the name of exporter, address or recordkeeping office, and taxpayer I.D. The information will be collected to determine the eligibility of the manufacture to receive payment, the eligibility of the cotton on which a claim for payment is based, the appropriate payment rate and the value of the payment. If the information is not payment inaccuracies could occur.

Description of Respondents: Business or other for-profit.

Number of Respondents: 40.

Frequency of Responses: Reporting: Weekly.

Total Burden Hours: 780.

Agency is requesting an emergency approval by 3/27/00.

Farm Service Agency

Title: Cottonseed Payment Program Application/Certification.

OMB Control Number: 0560-NEW.

Summary of Collection: The Consolidated Appropriation Act for FY 2000 provides authority for the Secretary of Agriculture to provide assistance to producers or first handlers of the 1999 crop of cottonseed. This authority is being used to implement a new program because of the continuing low prices of cottonseed that, in some cases, have been passed along to cotton producers in the form of increased ginning fees. The application form for which approval is requested, CCC Cotton A-6, will identify potential payment recipients and serve as their request for payments.

Need and Use of the Information: FSA will collect the following information: (1) Applicant name, address, and a contact person and phone; (2) bank account information for direct deposit payment (account name, number, routing number); (3) the gin 5-digit identifying code; (4) the numbers of bales of cotton ginned from the 1999 cotton crop according to the Agricultural Marketing Service (AMS) and certified as correct by the applicant; and (5) the weight (in pounds) of cotton lint of the reported bales for which payment is requested. The proposed information collection is the application and certification form to be used by cotton gins to request payments under the Cottonseed Payment Program. The information will be used to determine the national payment rate and to compute individual program payment amounts for each applicant.

Description of Respondents: Business or other for-profit.

Number of Respondents: 1100.

Frequency of Responses: Reporting: Annually.

Total Burden Hours: 733.

Agency is requesting an emergency approval by 3/17/00.

Farm Service Agency

Title: Emergency Assistance for Harney County, Oregon—7 CFR 1478.

OMB Control Number: 0560-NEW.

Summary of Collection: On November 29, 1999, the President signed H.R. 3194, Pub. L. 106-113 (113 Stat. 1501) (Act), which provides under Section 207 of this Act, the Secretary of Agriculture discretionary authority to use not more than $1,090,000 to provide for losses to producers who suffered flood-related crop and forage during 1999. The program will provide compensation to approximately 40 producers whose land was inaccessible for incapable of crop production, grazing, or haying at any time during the 1999 calendar year. The Farm Service Agency (FSA) will collect information using form CCC-454.

Need and Use of the Information: FSA will collect information to determine if: (1) Producers incurred crop, forage, and grazing losses during the 1999 calendar year; (2) producers were under obligation due to a binding lease to make a fair market value rental payment for flooded land for crop year 1999; (3) producers had land that was inaccessible or incapable of crop production, haying, or grazing due to flooding during the 1990 calendar year.

The information collected will be used by the County Committee to determine whether flooding causing loss of production and/or grazing during the 1999 calendar year. If the producer does not provide the information to accurately substantiate that the flooded land has been inaccessible or incapable of crop production, haying, or grazing due to flooding during the 1990 calendar year, the producers will not be able to receive assistance under the program.

Description of Respondents: Farms; Federal Government; State, Local or Tribal Government.

Number of Respondents: 40.

Frequency of Responses: Reporting: Other (one-time).

Total Burden Hours: 80.

Agency is requesting an emergency approval by 3/31/00.

William McAndrew,
Departmental Clearance Officer.

[FR Doc. 00-7159 Filed 3-22-00; 8:45 am]

BILLING CODE 3410-01-M